DEPARTMENT OF TRANSPORTATION

Federal Aviation Administration

Environmental Assessments for the Air Tour Management Plan Program at Haleakala National Park, Hawaii Volcanoes National Park, Puukohola Heiau National Historic Site, Kaloko-Honokohau National Historical Park, Kalaupapa National Historical Park, and Pu'uhonua O Honaunau National Historical Park

AGENCY: Federal Aviation Administration, DOT.

ACTION: Notice of intent to prepare environmental assessments and notice of initiation of public scoping.

SUMMARY: The Federal Aviation Administration (FAA), in cooperation with the National Park Service (NPS), has initiated the development of Air Tour Management Plans (ATMPs) for Haleakala National Park, Hawaii Volcanoes National Park, Puukohola Heiau National Historic Site, Kaloko-Honokohau National Historical Park, Kalaupapa National Historical Park, and Pu'uhonua O Honaunau National Historical Park, pursuant to the National Parks Air Tour Management Act of 2000 (Public Law 106-181) and its implementing regulations contained in Title 14, Code of Federal Regulations, part 136, National Parks Air Tour Management. The objective of each ATMP is to develop acceptable and effective measures to mitigate or prevent the significant adverse impacts, if any, of commercial air tour operations upon the natural resources, cultural resources, and visitor experiences of the subject national park unit.

DATES:

Scoping Period: The 45-day scoping period will be initiated upon publication of this notice. Please submit any written response you may have within 45 days from the date of this Notice, or no later than Monday, April 12, 2004.

Scoping Meetings: Public scoping meetings have been scheduled for these projects as follows:

Subject park | Date | Time | Location
Puukohola Heiau National Historic Site | Wednesday, March 24, 2004 | 4:30 p.m. to 7 p.m | Waimea Civic Center Conference Room, 67-5189 Kamamalu Street, Kamuela, Hawaii.
Hawaii Volcanoes National Park | Thursday, March 25, 2004 | 6 p.m. to 8:30 p.m | King Kamehameha's Hotel, Kamakahonu Ballroom, 75-5660 Palani Road, Kailua-Kona, Hawaii.
Hawaii Volcanoes National Park | Friday, March 26, 2004 | 6 p.m. to 8:30 p.m | University of Hawaii at Hilo, University Classroom, Building 301, Room 100, 200 West Kawili St., Hilo, Hawaii.
Pu'uhonua O Honaunau National Historical Park | Thursday, March 25, 2004 | 6 p.m. to 8:30 p.m | King Kamehameha's Hotel, Kamakahonu Ballroom, 75-5660 Palani Road, Kailua-Kona, Hawaii.
Kaloko-Honokohau National Historical Park | Thursday, March 25, 2004 | 6 p.m. to 8:30 p.m | King Kamehameha's Hotel, Kamakahonu Ballroom, 75-5660 Palani Road, Kailua-Kona, Hawaii.
Kalaupapa National Historical Park | Saturday, March 27, 2004 | 6 p.m. to 8:30 p.m | Kaunakakai Elementary School, 30 Ailo Street, Kaunakakai, Molokai.
Kalaupapa National Historical Park | Monday, March 29, 2004 | 12 p.m. to 2:30 p.m | McVeigh Social Hall, Kalaupapa National Park, Kalaupapa, Molokai.
Haleakala National Park | Tuesday, March 30, 2004 | 6 p.m. to 8:30 p.m | Hana Community Center (Old Hana School Cafeteria), 150 Uakea Road, Hana, Maui.
Haleakala National Park | Wednesday, March 31, 2004 | 6 p.m. to 9:30 p.m | Mayor Hannibal Tavares Community Center, 91 Pukalani Street, Pukalani, Maui.

ADDRESSES: Please submit any written response you may have within 45 days from the date of this Notice, or no later than Monday, April 12, 2004. Address your comments to: Docket Management System, Doc No. FAA-2004-17174, U.S. Department of Transportation, Room Plaza 401, 400 Seventh Street, SW., Washington, DC 20590-0001.

You must identify the docket number FAA-2004-17174 at the beginning of your comments. If you wish to receive confirmation that FAA received your comments, include a self-addressed, stamped postcard. You may also submit comments through the Internet to http://dms.dot.gov. You may review the public docket containing comments in person in the Dockets Office between 9 a.m. and 5 p.m., Monday through Friday, except Federal holidays. The Dockets Office is on the plaza level of the NASSIF Building at the Department of Transportation at the above address. Also, you may review public dockets on the Internet at http://dms.dot.gov. Additionally, comments will be received and recorded at the public scoping meetings.

FOR FURTHER INFORMATION CONTACT: Steve May, Air Tour Management Plan Program Manager, Executive Resource Staff, AWP-4, Federal Aviation Administration, Western-Pacific Region. Mailing address: P.O. Box 92007, Los Angeles, California 90009-2007. Telephone: (310) 725-3808. Street address: 15000 Aviation Boulevard, Lawndale, California 90261. e-mail: Steve.May@faa.gov.

SUPPLEMENTARY INFORMATION: In developing each ATMP and any associated rulemaking actions, the FAA is required to comply with the National Environmental Policy Act of 1969, which calls on Federal agencies to consider environmental issues as part of their decision making process. For the purposes of compliance with the National Environmental Policy Act, the FAA is the Lead Agency and the NPS is a Cooperating Agency. The FAA Air Tour Management Plan Program Office and the NPS Natural Sounds Program Office are responsible for the overall implementation of the ATMP Program.

Environmental Assessments are being prepared in accordance with FAA Order 1050.1D, Policies and Procedures for Considering Environmental Impacts. The FAA is now inviting the public, agencies, and other interested parties to provide comments, suggestions, and input regarding: (1) The scope, issues, and concerns related to the development of each ATMP; (2) the scope of issues and the identification of significant issues regarding commercial air tours and their potential impacts to be addressed in the environmental process; (3) the potential effects of commercial air tours on cultural and historic resources; (4) past, present, and reasonably foreseeable future actions which, when considered with ATMP alternatives, may result in significant cumulative impacts; and (5) potential ATMP alternatives. The FAA requests that comments be as specific as possible in response to actions that are being proposed under this notice.

Public scoping meetings have been scheduled for this project. The purpose of these scoping meetings is to describe the ATMP development and environmental processes, obtain public input regarding the ATMP and potential environmental concerns that may be appropriate for consideration in the Environmental Assessment, and to identify alternatives to be considered. Both oral and written comments will be accepted during these meetings. Agency personnel will be available to record your spoken comments. All recorded and written comments become part of the official record. The public scoping meetings will consist of a presentation in which the National Parks Air Tour Management Act of 2000 is introduced, existing conditions at Haleakala National Park, Hawaii Volcanoes National Park, Puukohola Heiau National Historic Site, Kaloko-Honokohau National Historical Park, and Pu'uhonua O Honaunau National Historical Park are described and the ATMP development process at each park unit is explained. Following the presentation, the floor will be opened for public comments to be received.

Park-specific scoping documents that describe the project in greater detail are available at the following locations:

• Kalaupapa National Park Headquarters, Kalaupapa, Molokai

• Molokai Public Library, 15 Ala Malama, Kaunakakai, Molokai

• Haleakala National Park Headquarters, Mile Marker 11, Crater Road, Kula, Maui

• Hana Public and School Library, Hana, Maui

• Makawao Public Library, 1159 Makawao Avenue, Makawao, Maui

• Kahului Public Library in 90 School Street, Kahului, Maui

• Kalaupapa National Historic Park, P.O. Box 2222, Kalaupapa, Hawaii

• Kihei Public Library, 35 Waimahaihai Street, Kihei, Maui

• Lahaina Public Library, 680 Wharf Street, Lahaina, Maui

• Lana'i Public and School Library, 555 Fraser Avenue, Lana'i City, Maui

• Wailuku Public Library, 251 High Street, Wailuku, Maui

• Hawaii Volcanoes National Park Headquarters, 1 Crater Rim Drive, Hawaii Volcanoes, Hawaii

• Puukohola Heiau National Historic Site Headquarters, 62-3601 Kawaihai Road, Kawaihai, Hawaii

• Kaloko-Honokohau National Historical Park Headquarters, 73-4786 Kanalani Street, #14, Kailua-Kona, Hawaii

• Pu'uhonua O Honaunau National Historical Park, Highway 160, Honaunau, Hawaii

• Hilo Public Library, 300 Waianuenue Avenue, Hilo, Hawaii

• Kailua-Kona Public Library, 75-138 Hualalai Road, Kailua-Kona, Hawaii

• Naalehu Public Library, 95-5669 Mamalahoa Highway, Naalehu, Hawaii

• Pahala Public and School Library, 96-3150 Pikake Street, Pahala, Hawaii

• Hawaii State Library, 478 South King Street, Honolulu, Oahu

• FAA Air Tour Management Plan Program Web site, http://www.atmp.faa.gov/

• FAA Docket Management System Web site, http://dms.dot.gov

Issued in Washington, DC on February 23, 2004.
Ruth Leverenz,
Assistant Administrator for Region and Center Operations.

[FR Doc. 04-4397 Filed 2-26-04; 8:45 am]

BILLING CODE 4910-13-P